SURFACE TRANSPORTATION BOARD

[Docket No. FD 36319]

Texas Pacifico Transportation, Ltd.—Trackage Rights Exemption—Union Pacific Railroad Company

Texas Pacifico Transportation, LTD. (TXPF), has filed a verified notice of exemption under 49 CFR 1180.2(d)(7) to acquire overhead trackage rights from Union Pacific Railroad Company (UP). TXPF states that UP, pursuant to a written trackage rights agreement, has granted TXPF overhead trackage rights over approximately 11.18 miles of UP's rail line between UP's connection with TXPF at Alpine, Tex., in the vicinity of UP's milepost 608.46, and UP's connection with TXPF at Paisano Junction, Tex., in the vicinity of UP's milepost 619.64.¹

¹ A redacted copy of the agreement, dated March 5, 2019, is attached to the verified notice. An unredacted copy has been filed under seal along with a motion for protective order pursuant to 49 CFR 1104.14. That motion is addressed in a separate decision.

The verified notice states that TXPF leases a line of railroad owned by the State of Texas extending from San Angelo Junction to Alpine and from Paisano Junction to the U.S.-Mexico border at Presidio, Tex., and that the trackage rights at issue here will provide connectivity between the two parts of TXPF's current operation.²

² The verified notice states that, in 1992, Southern Pacific Transportation Company (SP) granted trackage rights to the South Orient Railroad Company, Ltd. (SORC), in ICC Docket No. FD 32032, and that those rights were assigned to TXPF when TXPF acquired SORC's operations pursuant to Texas Pacifico Transportation, Ltd.—Acquisition & Operation Exemption—South Orient Railroad, FD 33851 (STB served Mar. 3, 2000). According to TXPF, that trackage rights agreement was terminated by UP following expiration of its initial term, and TXPF and UP negotiated a new trackage rights agreement, which is the subject of TXPF's verified notice here. The verified notice states that the mileposts on UP's line were changed following merger between UP and SP, therefore, the new agreement mileposts do not match the mileposts in the prior agreement.

The transaction is scheduled to be consummated on the effective date of the notice of exemption. The earliest this transaction may be consummated is August 23, 2019, the effective date of the exemption (30 days after the verified notice of exemption was filed).

As a condition to this exemption, any employees affected by the acquisition of the trackage rights will be protected by the conditions imposed in Norfolk & Western Railway—Trackage Rights—Burlington Northern, Inc., 354 I.C.C. 605 (1978), as modified in Mendocino Coast Railway—Lease & Operate—California Western Railroad, 360 I.C.C. 653 (1980).

If the verified notice contains false or misleading information, the exemption is void ab initio. Petitions to revoke the exemption under 49 U.S.C. 10502(d) may be filed at any time. The filing of a petition to revoke will not automatically stay the effectiveness of the exemption. Petitions to stay must be filed by August 16, 2019 (at least seven days before the exemption becomes effective).

All pleadings, referring to Docket No. FD 36319, must be filed with the Surface Transportation Board, either via e-filing or in writing addressed to 395 E Street SW, Washington, DC 20423-0001. In addition, a copy of each pleading must be served on TXPF's representative, Jeffrey S. Lisson, Carter, Boyd, Lisson & Hohensee, P.C., 515 W. Harris, Ste. 100, San Angelo, TX 76903.

According to TXPF, this transaction does not require environmental documentation under 49 CFR 1105.6(c) and is exempt from historic preservation reporting under 49 CFR 1105.8(b)(3).

Board decisions and notices are available at www.stb.gov.

Decided: August 6, 2019.
By the Board, Scott M. Zimmerman, Acting Director, Office of Proceedings.
Jeffrey Herzig,
Clearance Clerk.

[FR Doc. 2019-17092 Filed 8-8-19; 8:45 am]

BILLING CODE 4915-01-P